DEPARTMENT OF ENERGY

Secretary of Energy Advisory Board

AGENCY: Department of Energy.

ACTION: Notice of open meeting.

SUMMARY: This notice announces an open meeting of the Secretary of Energy Advisory Board. The Federal Advisory Committee Act (Pub. L. 92-463, 86 Stat. 770), requires that agencies publish these notices in the Federal Register to allow for public participation.

DATES: Tuesday, April 1, 2003, 8:30 a.m.-12:30 p.m.

ADDRESSES: Hyatt Sainte Claire Hotel, Ballroom, 302 S. Market Street, San Jose, California 95113.

FOR FURTHER INFORMATION CONTACT: Dr. Craig R. Reed, Executive Director, Secretary of Energy Advisory Board (AB-1), U.S. Department of Energy, 1000 Independence Avenue, SW., Washington, DC 20585, (202) 586-7092 or (202) 586-6279 (fax).

SUPPLEMENTARY INFORMATION: The purpose of the Secretary of Energy Advisory Board (The Board) is to provide the Secretary of Energy with essential independent advice and recommendations on issues of national importance. The Board and its subcommittees provide timely, balanced, and authoritative advice to the Secretary of Energy on the Department's management reforms, research, development and technology activities, energy and national security responsibilities, environmental cleanup activities, and other issues relating to the Department's missions.

Tentative Agenda: The April 1st meeting will include a series of briefings and discussions on issues and challenges facing the Department of Energy. The Board will review and discuss the following two reports submitted for their approval by the Laboratory Operations Board, a subcommittee of the SEAB:

• Recommendations Regarding Industry Partnering/Technology Transfer Within the Department of Energy: A Report of the External Members The Laboratory Operations Board Industry Partnering/Technology Transfer Working Group, dated December 31, 2002.

• Recommendations Regarding the Application of “Other Transactions Authority” Within the Department of Energy: A Report of the External Members of the Laboratory Operations Board, dated September 24, 2002.

Copies of the two draft reports submitted by the Laboratory Operations Board may be obtained from the Board's internet address http://www.seab.energy.gov/ under the heading “What's New” or by contacting the Office of the Secretary of Energy Advisory Board at (202) 586-7092. Members of the public are invited to comment on the two reports during the scheduled public comment period or by submitting written comments to the Secretary of Energy Advisory Board by March 27, 2003. The Board will also receive status reports from the SEAB Subcommittee on Energy Technologies and the American Economy and from the SEAB Subcommittee on the Future of Science Programs at the Department of Energy. In addition, the Board will be briefed on activities for the coming year, including plans for the formation of a “Blue Ribbon Commission” on the use of competitive procedures for DOE laboratory management and operations contracts.

Members of the public wishing to comment on issues before the Secretary of Energy Advisory Board will have an opportunity to address the Board during the public comment period. The final agenda will be posted on the Board's web site when available, and will be provided at the meeting.

Public Participation: In keeping with procedures, members of the public are welcome to observe the business of the Secretary of Energy Advisory Board and submit written comments or comment during the scheduled public comment period. The Chairman of the Board is empowered to conduct the meeting in a fashion that will, in the Chairman's judgment, facilitate the orderly conduct of business. During its meeting in San Jose, California, the Board welcomes public comment. Members of the public will be heard in the order in which they sign up at the beginning of the meeting. The Board will make every effort to hear the views of all interested parties. You may submit written comments to Dr. Craig R. Reed, Executive Director, Secretary of Energy Advisory Board, AB-1, U.S. Department of Energy, 1000 Independence Avenue, SW., Washington, DC 20585.

Minutes: A copy of the minutes and a transcript of the meeting will be made available for public review and copying approximately 30 days following the meeting at the Freedom of Information Public Reading Room, 1E-190 Forrestal Building, 1000 Independence Avenue, SW., Washington, DC between 9 a.m. and 4 p.m., Monday through Friday except Federal holidays. Further information on the Secretary of Energy Advisory Board and its subcommittees may be found at the Board's Web site, located at http://www.seab.energy.gov/.

Issued at Washington, DC on March 12, 2003.
Rachel M. Samuel,
Deputy Advisory Committee Management Officer.

[FR Doc. 03-6279 Filed 3-14-03; 8:45 am]

BILLING CODE 6450-01-P